COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date deleted from the Procurement List: July 13, 2025

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Deletions

On 5/2/2025 (90 FR 18838) and 5/9/2025 (90 FR 19681), the Committee for Purchase From People Who Are Blind or Severely Disabled published notice of proposed deletions from the Procurement List. This notice is published pursuant to 41 U.S.C. 8503 (a)(2) and 41 CFR 51-2.3. After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

PSIN 01036-F—Marker, I.D., Plastic, Pink

PSIN 01036-E—Marker, I.D., Plastic, Yellow

PSIN 01036-D—Marker, I.D., Plastic, Violet

PSIN 01036-C—Marker, I.D., Plastic, Green

PSIN 01036-B—Marker, I.D., Plastic, Orange

PSIN 01036-A—Marker, I.D., Plastic, Blue

PSIN 01036—Marker, I.D., Plastic, White

Authorized Source of Supply: Human Technologies Corporation, Utica, NY

Contracting Activity: U.S. Postal Service, Eagan, MN, Washington, DC, and Chicago, IL

NSN(s)—Product Name(s):

8115-00-NSH-0277—Crate, Wood, Style A

8115-00-NSH-0278—Crate, Wood, Style B-4

8115-00-NSH-0279—Crate, Wood, Style 1, Style 1 with ⅜″ Sides and Ends

8115-00-NSH-0280—Crate, Wood, Style 1 with 1″ Sides and Ends

8115-00-NSH-0281—Crate, Wood, Style 2

8115-00-NSH-0282—Crate, Wood, Style 4

8115-00-NSH-0283—Crate, Wood, Style 104

Authorized Source of Supply: Knox County Association for Remarkable Citizens, Inc., Vincennes, IN

Contracting Activity: NSWC CRANE, CRANE, IN

NSN(s)—Product Name(s): 8430-00-NSH-0002—Snowshoes, Assault, Cramp-on, Marine Corps, Black, Royal Blue, and Plum

Authorized Source of Supply: PRIDE Industries, Roseville, CA

Contracting Activity: W6QK ACC-APG NATICK, NATICK, MA

NSN(s)—Product Name(s):

8340-00-NSH-0002—Rainfly, Shelter, Complete, Olive Drab

8340-00-NSH-0003—Rainfly, Shelter, Complete, Tan

8340-00-NSH-0005—Spare Parts Kit, Shelter, Complete

Authorized Source of Supply: ORC Industries, Inc., La Crosse, WI

Contracting Activity: COMMANDER, QUANTICO, VA

NSN(s)—Product Name(s): 7690-00-NSH-0078—Microfiche of FAA Directives & Advisory Circulars

Authorized Source of Supply: Alliance, Inc., Baltimore, MD

Contracting Activity: Government Printing Office, Washington, DC

NSN(s)—Product Name(s):

8405-00-001-1547—Parka, Rain Suit for Wet Weather, Army, Woodland Camouflage Green, Brown, Black, XS

8405-00-001-1548—Parka, Rain Suit for Wet Weather, Army, Woodland Camouflage Green, Brown, Black, Small

8405-00-001-1549—Parka, Rain Suit for Wet Weather, Army, Woodland Camouflage Green, Brown, Black, Medium

8405-00-001-1550—Parka, Rain Suit for Wet Weather, Army, Woodland Camouflage Green, Brown, Black, Large

8405-00-001-1551—Parka, Rain Suit for Wet Weather, Army, Woodland Camouflage Green, Brown, Black, X Large

8405-01-053-9202—Parka, Rain Suit for Wet Weather, with Hood, Army, Woodland Camouflage, XXS

8405-00-001-8025—Trousers, Wet Weather, Army, Men's, Woodland Camouflage Green, Brown, Black, XS

8405-00-001-8026—Trousers, Wet Weather, Army, Men's, Woodland Camouflage Green, Brown, Black, Small

8405-00-001-8027—Trousers, Wet Weather, Army, Men's, Woodland Camouflage Green, Brown, Black, Medium

8405-00-001-8028—Trousers, Wet Weather, Army, Men's, Woodland Camouflage Green, Brown, Black, Large

8405-00-001-8029—Trousers, Wet Weather, Army, Men's, Woodland Camouflage Green, Brown, Black, X Large

Authorized Source of Supply: ORC Industries, Inc., La Crosse, WI

Contracting Activity: DLA TROOP SUPPORT, PHILADELPHIA, PA

NSN(s)—Product Name(s):

8415-01-443-9176—Vest, Load Bearing Equipment

PART NO 3505-06-115—Pouch, 40mm 2round

PART NO 3505-06-114—Pad, Belt

PART NO 3505-06-107—D-Ring Assembly

PART NO 3505-06-106—Vest, Front & Back Co

PART NO 3505-06-105—Panel, Vest, Right

PART NO 3505-06-104—Panel, Vest, Left

PART NO 3505-06-103—Pad, Shoulder Assembly

PART NO 3505-06-102—Panel, Back

8415-01-440-9528—Vest Assembly

8465-01-440-5885—Pouch, 3Pocket, 40mm

8465-01-440-9529—Pad, Leg

8465-01-440-9530—Pouch, Utility, Medium

8465-01-440-9538—Pouch, Utility, Small

Authorized Source of Supply: Chautauqua County Chapter, NYSARC, Jamestown, NY

Contracting Activity: COMMANDER, QUANTICO, VA

NSN(s)—Product Name(s): 1440-01-132-9719—Kit, Tiedown, Guided Missile

Authorized Source of Supply: Huntsville Rehabilitation Foundation, Inc., Huntsville, AL

Contracting Activity: DLA AVIATION, RICHMOND, VA

NSN(s)—Product Name(s):

5340-00-460-4522—Clamp, Loop, CRES, Teflon-Asbestos, 203/250” Loop x 1/2” Wide

5340-00-460-4524—Clamp, Loop, CRES, Teflon-Asbestos, 86/125” Loop x 1/2” Wide

5340-00-562-2947—Clamp, Loop, CRES, Teflon-Asbestos, 1-47/250” Loop x 1/2” Wide

5340-01-018-8983—Clamp, Loop, CRES, Teflon-Asbestos, 1-39/125” Loop x 1/2” Wide

Authorized Source of Supply: Skookum Educational Programs, Bremerton, WA

Contracting Activity: DLA LAND AND MARITIME, COLUMBUS, OH

NSN(s)—Product Name(s): 8415-00-NSH-0051—Hood, Disposable

Authorized Source of Supply: TradeWinds Services, Inc., Merrillville, IN

Contracting Activity: NAVSUP FLT LOG CTR PUGET SOUND, BREMERTON, WA

NSN(s)—Product Name(s): 8415-00-NSH-0052—Cap, Disposable

Authorized Source of Supply: TradeWinds Services, Inc., Merrillville, IN

Contracting Activity: NAVSUP FLT LOG CTR PUGET SOUND, BREMERTON, WA

NSN(s)—Product Name(s):

6645-04-000-3337—Clock, Wall, Slimline, Black, Postal Service Logo, 12¾″ Quartz

6645-04-000-3338—Clock, Wall, Slimline, Brown, Postal Service Logo, 12¾″ Quartz

6645-04-000-3343—Clock, Wall, Mahogany, Postal Service Logo, 16″ Quartz

6645-04-000-4266—Clock, Wall, 12/24 Hour, Bronze, Postal Service Logo, 12¾″ Slimline Quartz

Authorized Source of Supply: Chicago Lighthouse Industries, Chicago, IL

Contracting Activity: U.S. Postal Service, Washington, DC, Washington, DC

NSN(s)—Product Name(s): 3920-02-000-1916—Strip, Door

Authorized Source of Supply: Rauch, Inc., New Albany, IN

Contracting Activity: USPS, Topeka Purchasing Center, Topeka, KS

NSN(s)—Product Name(s): 3990-00-NSH-0074—Pallet, 4-Way Speciality

Authorized Source of Supply: Northeastern Michigan Rehabilitation and Opportunity Center (NEMROC), Alpena, MI

Contracting Activity: FA7014 AFDW PK, ANDREWS AFB, MD

NSN(s)—Product Name(s): 2920-01-151-3627—Glow Plug, Diesel

Authorized Source of Supply: Shares, Inc., Shelbyville, IN

Contracting Activity: DLA LAND AND MARITIME, COLUMBUS, OH

NSN(s)—Product Name(s):

8415-01-552-5547—Shirt, T, Cold Weather Anti Microbial Combat Level 1, PCU, Army, Brown, XXL

8415-01-552-5535—Shirt, T, Cold Weather Anti Microbial Combat Level 1, PCU, Army, Brown, XS

8415-01-552-5536—Shirt, T, Cold Weather Anti Microbial Combat Level 1, PCU, Army, Brown, S

8415-01-552-5537—Shirt, T, Cold Weather Anti Microbial Combat Level 1, PCU, Army, Brown, M

8415-01-552-5538—Shirt, T, Cold Weather Anti Microbial Combat Level 1, PCU, Army, Brown, ML

8415-01-552-5540—Shirt, T, Cold Weather Anti Microbial Combat Level 1, PCU, Army, Brown, L

8415-01-552-5542—Shirt, T, Cold Weather Anti Microbial Combat Level 1, PCU, Army, Brown, LL

8415-01-552-5543—Shirt, T, Cold Weather Anti Microbial Combat Level 1, PCU, Army, Brown, XLL

8415-01-552-5544—Shirt, T, Cold Weather Anti Microbial Combat Level 1, PCU, Army, Brown, XL

8415-01-552-5546—Shirt, T, Cold Weather Anti Microbial Combat Level 1, PCU, Army, Brown, XXLL

8415-01-552-5549—Shirt, T, Cold Weather Anti Microbial Combat Level 1, PCU, Army, Brown, XXXL

8415-01-552-5551—Shirt, T, Cold Weather Anti Microbial Combat Level 1, PCU, Army, Brown, XXXLL

8415-01-552-5635—Drawers, Boxer, Extreme Cold Weather Anti Microbial Level 1, PCU, Army, Brown, XS

8415-01-552-5637—Drawers, Boxer, Extreme Cold Weather Anti Microbial Level 1, PCU, Army, Brown, X

8415-01-552-5641—Drawers, Boxer, Extreme Cold Weather Anti Microbial Level 1, PCU, Army, Brown, M

8415-01-552-5640—Drawers, Boxer, Extreme Cold Weather Anti Microbial Level 1, PCU, Army, Brown, ML

8415-01-552-5642—Drawers, Boxer, Extreme Cold Weather Anti Microbial Level 1, PCU, Army, Brown, L

8415-01-552-5622—Drawers, Boxer, Extreme Cold Weather Anti Microbial Level 1, PCU, Army, Brown, LL

8415-01-552-5626—Drawers, Boxer, Extreme Cold Weather Anti Microbial Level 1, PCU, Army, Brown, XLL

8415-01-552-5628—Drawers, Boxer, Extreme Cold Weather Anti Microbial Level 1, PCU, Army, Brown, XLLXL

8415-01-552-5644—Drawers, Boxer, Extreme Cold Weather Anti Microbial Level 1, PCU, Army, Brown, XXLL

8415-01-552-5625—Drawers, Boxer, Extreme Cold Weather Anti Microbial Level 1, PCU, Army, Brown, XL

8415-01-552-5631—Drawers, Boxer, Extreme Cold Weather Anti Microbial Level 1, PCU, Army, Brown, XXXL-R

8415-01-552-5634—Drawers, Boxer, Extreme Cold Weather Anti Microbial Level 1, PCU, Army, Brown, XXXLL

8415-01-535-7843—Drawers, Boxer Shorts, Level 1, PCU, Army, Brown, XXL

Authorized Source of Supply: Southeastern Kentucky Rehabilitation Industries, Inc., Corbin, KY

Authorized Source of Supply: Knox County Association for Remarkable Citizens, Inc., Vincennes, IN

Contracting Activity: W6QK ACC-APG NATICK, NATICK, MA

NSN(s)—Product Name(s): 7530-00-138-9919—Paper, Tabulating Machine

Authorized Source of Supply: Association for Vision Rehabilitation and Employment, Inc., Binghamton, NY

Contracting Activity: SOCIAL SECURITY ADMINISTRATION, BALTIMORE, MD

NSN(s)—Product Name(s): 5340-01-105-1002—Strap, Webbing, 6″ x 1″

Authorized Source of Supply: The Charles Lea Center, Inc., Spartanburg, SC

Contracting Activity: DLA LAND AND MARITIME, COLUMBUS, OH

NSN(s)—Product Name(s): 620003501N—Desk Lamp, LED, Wireless and USB Charging, Black

Authorized Source of Supply: Chicago Lighthouse Industries, Chicago, IL

Contracting Activity: GSA/FAS FURNITURE SYSTEMS MGT DIV, PHILADELPHIA, PA

NSN(s)—Product Name(s): 6515-00-383-0565—Tourniquet, Non-Pneumatic

Authorized Source of Supply: BLIND AND VISION REHABILITATION SERVICES OF PITTSBURGH, Pittsburgh, PA

Contracting Activity: DLA TROOP SUPPORT, PHILADELPHIA, PA

NSN(s)—Product Name(s):

8415-01-501-6888—Drawers, Lightweight Extreme Cold Weather, SPEAR, Army, Unisex, Ankle Length, Black, SR

8415-01-501-6891—Drawers, Lightweight Extreme Cold Weather, SPEAR, Army, Unisex, Ankle Length, Black, MR

8415-01-501-6892—Drawers, Lightweight Extreme Cold Weather, SPEAR, Army, Unisex, Ankle Length, Black, LR

8415-01-501-6894—Drawer, Lightweight Extreme Cold Weather, SPEAR, Army, Unisex, Ankle Length, Black, LL

8415-01-501-6896—Drawers, Lightweight Extreme Cold Weather, SPEAR, Army, Unisex, Ankle Length, Black, XLR

8415-01-501-6897—Drawers, Lightweight Extreme Cold Weather, SPEAR, Army, Unisex, Ankle Length, Black, XLL

8415-01-501-7074—Shirt, Underwear, Lightweight Extreme Cold Weather, SPEAR, Army, Unisex, Black, SR

8415-01-501-7075—Shirt, Underwear, Lightweight Extreme Cold Weather, SPEAR, Army, Unisex, Black, MR

8415-01-501-7077—Shirt, Underwear, Lightweight Extreme Cold Weather, SPEAR, Army, Unisex, Black, LR

8415-01-501-7108—Shirt, Underwear, Lightweight Extreme Cold Weather, SPEAR, Army, Unisex, Black, LL

8415-01-501-7113—Shirt, Underwear, Lightweight Extreme Cold Weather, SPEAR, Army, Unisex, Black, XLR

8415-01-501-7114—Shirt, Underwear, Lightweight Extreme Cold Weather, SPEAR, Army, Unisex, Black, XLL

8415-01-502-3981—Overalls, Bib, Stretch, SPEAR, Army, Unisex, Green, SR

8415-01-502-3984—Stretch Fleece Bib Overall, Size Medium Regular—

8415-01-502-4029—Overalls, Bib, Stretch, SPEAR, Army, Unisex, Green, LR

8415-01-502-4030—Overalls, Bib, Stretch, SPEAR, Army, Unisex, Green, LL

8415-01-502-4031—Overalls, Bib, Stretch, SPEAR, Army, Unisex, Green, XLR

8415-01-502-4032—Overalls, Bib, Stretch, SPEAR, Army, Unisex, Green, XLL

8415-01-472-6867—Overalls, Bib, Cold Weather, Fleece, Army, Black, XSSR

8415-01-472-6908—Overalls, Bib, Cold Weather, Fleece, Army, Black, XSL

8415-01-472-6909—Overalls, Bib, Cold Weather, Fleece, Army, Black, SSR

8415-01-472-6911—Overalls, Bib, Cold Weather, Fleece, Army, Black, SL

8415-01-472-6912—Overalls, Bib, Cold Weather, Fleece, Army, Black, MSR

8415-01-472-6914—Overalls, Bib, Cold Weather, Fleece, Army, Black, ML

8415-01-472-6915—Overalls, Bib, Cold Weather, Fleece, Army, Black, LSR

8415-01-472-6916—Overalls, Bib, Cold Weather, Fleece, Army, Black, LL

8415-01-472-6917—Overalls, Bib, Cold Weather, Fleece, Army, Black, XLSR

8415-01-472-6918—Overalls, Bib, Cold Weather, Fleece, Army, Black, XLL

Authorized Source of Supply: Peckham Vocational Industries, Inc., Lansing, MI

Contracting Activity: DLA TROOP SUPPORT, PHILADELPHIA, PA

NSN(s)—Product Name(s):

8415-01-327-5296—Coat, Combat Type VII, Army, Desert Camouflage, X Small X Short

8415-01-327-5297—Coat, Combat Type VII, Army, Desert Camouflage, X Small/Short

8415-01-327-5298—Coat, Combat Type VII, Army, Desert Camouflage, X Small/Regular

8415-01-327-5299—Coat, Combat Type VII, Army, Desert Camouflage, Small/XX Short

8415-01-327-5300—Coat, Combat Type VII, Army, Desert Camouflage, Small X Short

8415-01-327-5301—Coat, Combat Type VII, Army, Desert Camouflage, Small Short

8415-01-327-5302—Coat, Combat Type VII, Army, Desert Camouflage, Small Regular

8415-01-327-5303—Coat, Combat Type VII, Army, Desert Camouflage, Small Long

8415-01-327-5304—Coat, Combat Type VII, Army, Desert Camouflage, Small X Long

8415-01-327-5305—Coat, Combat Type VII, Army, Desert Camouflage, Medium/XX Short

8415-01-327-5306—Coat, Combat Type VII, Army, Desert Camouflage, Medium/X Short

8415-01-327-5307—Coat, Combat Type VII, Army, Desert Camouflage, Medium/Short

8415-01-327-5308—Coat, Combat Type VII, Army, Desert Camouflage, Medium/Regular

8415-01-327-5309—Coat, Combat Type VII, Army, Desert Camouflage, Medium/Long

8415-01-327-5310—Coat, Combat Type VII, Army, Desert Camouflage, Medium/X Long

8415-01-327-5311—Coat, Combat Type VII, Army, Desert Camouflage, Large/X Short

8415-01-327-5312—Coat, Combat Type VII, Army, Desert Camouflage, Large/Short

8415-01-327-5313—Coat, Combat Type VII, Army, Desert Camouflage, Large/Regular

8415-01-327-5314—Coat, Combat Type VII, Army, Desert Camouflage, Large/Long

8415-01-327-5315—Coat, Combat Type VII, Army, Desert Camouflage, Large/X Long

8415-01-327-5316—Coat, Combat Type VII, Army, Desert Camouflage, X Large/Regular

8415-01-327-5317—Coat, Combat Type VII, Army, Desert Camouflage, X Large/Long

8415-01-472-6867—Overalls, Bib, Cold Weather, Fleece, Army, Black, XSSR

8415-01-472-6908—Overalls, Bib, Cold Weather, Fleece, Army, Black, XSL

8415-01-472-6909—Overalls, Bib, Cold Weather, Fleece, Army, Black, SSR

8415-01-472-6911—Overalls, Bib, Cold Weather, Fleece, Army, Black, SL

8415-01-472-6912—Overalls, Bib, Cold Weather, Fleece, Army, Black, MSR

8415-01-472-6914—Overalls, Bib, Cold Weather, Fleece, Army, Black, ML

8415-01-472-6915—Overalls, Bib, Cold Weather, Fleece, Army, Black, LSR

8415-01-472-6916—Overalls, Bib, Cold Weather, Fleece, Army, Black, LL

8415-01-472-6917—Overalls, Bib, Cold Weather, Fleece, Army, Black, XLSR

8415-01-472-6918—Overalls, Bib, Cold Weather, Fleece, Army, Black, XLL

Authorized Source of Supply: ReadyOne Industries, Inc., El Paso, TX

Contracting Activity: DLA TROOP SUPPORT, PHILADELPHIA, PA

Service(s)

Service Type: Office Supply Store

Mandatory for: Federal Building: 700 W. Capitol, Little Rock, AR

Authorized Source of Supply: The Arkansas Lighthouse for the Blind, Little Rock, AR

Contracting Activity: GENERAL SERVICES ADMINISTRATION, FPDS AGENCY COORDINATOR

Service Type: Furniture Design, Configuration and Installation

Mandatory for: U.S. Department of Interior, Bureau of Land Management, National Operations Center, Denver, CO

Authorized Source of Supply: Industries for the Blind and Visually Impaired, Inc., West Allis, WI

Contracting Activity: DEPARTMENTAL OFFICES, IBC ACQ SVCS DIRECTORATE (00004)

Service Type: Janitorial/Custodial

Mandatory for: US Army Corps of Engineers, Missouri River Area Office, Napoleon, MO

Contracting Activity: DEPT OF THE ARMY, W071 ENDIST KANSAS CITY

Service Type: Shelf Stocking & Custodial

Mandatory for: Redstone Arsenal (Provide specified end items produced through Huntsville, AL

Authorized Source of Supply: Alabama Goodwill Industries, Inc., Birmingham, AL

Contracting Activity: DEFENSE COMMISSARY AGENCY (DECA), DEFENSE COMMISSARY AGENCY

Service Type: Janitorial and Related Services

Mandatory for: FAA, Air Traffic Control Tower, Youngstown Municipal Airport, Vienna, OH

Authorized Source of Supply: VGS, Inc., Cleveland, OH

Contracting Activity: FEDERAL AVIATION ADMINISTRATION, 697DCK REGIONAL ACQUISITIONS SVCS

Service Type: Switchboard Operation

Mandatory for: Department of Housing and Urban Development, Headquarters, Washington, DC

Authorized Source of Supply: ServiceSource, Inc., Oakton, VA

Contracting Activity: PHILADELPHIA OPERATIONS BRANCH

Service Type: Grounds Maintenance

Mandatory for: Department of Veterans Affairs, Lake City VA Medical Center, Lake City, FL

Authorized Source of Supply: CARC-Advocates for Citizens with Disabilities, Inc., Lake City, FL

Contracting Activity: VETERANS AFFAIRS, DEPARTMENT OF, 248-NETWORK CONTRACT OFC 8(00248)

Service Type: Switchboard Operation

Mandatory for: Department of Veterans Affairs, Lake City VA Medical Center, Lake City, FL

Authorized Source of Supply: CARC-Advocates for Citizens with Disabilities, Inc., Lake City, FL

Contracting Activity: VETERANS AFFAIRS, DEPARTMENT OF, 248-NETWORK CONTRACT OFC 8(00248)

Michael R. Jurkowski,
Director, Business Operations.

[FR Doc. 2025-10827 Filed 6-12-25; 8:45 am]

BILLING CODE 6353-01-P